DEPARTMENT OF COMMERCE

Foreign-Trade Zones Board

[B-010-2017]

Foreign-Trade Zone (FTZ) 177—Evansville, Indiana; Authorization of Production Activity; Toyota Motor Manufacturing Indiana, Inc.; (Automotive Vehicles and Sub-Assemblies Production); Princeton, Indiana

On February 3, 2017, the Ports of Indiana, grantee of FTZ 177, submitted a notification of proposed production activity to the FTZ Board on behalf of Toyota Motor Manufacturing Indiana, Inc., within Subzone 177B, in Princeton, Indiana.

The notification was processed in accordance with the regulations of the FTZ Board (15 CFR part 400), including notice in the Federal Register inviting public comment (82 FR 11342, February 22, 2017). On June 2, 2017, the applicant was notified of the FTZ Board's decision that no further review of the activity is warranted at this time. The production activity described in the notification was authorized, subject to the FTZ Act and the FTZ Board's regulations, including Section 400.14.

Dated: June 13, 2017.
Andrew McGilvray,
Executive Secretary.

[FR Doc. 2017-12658 Filed 6-16-17; 8:45 am]

BILLING CODE 3510-DS-P